DEPARTMENT OF COMMERCE

National Oceanic and Atmospheric Administration

[RTID 0648-XD819]

Marine Mammals; File No. 27342

AGENCY: National Marine Fisheries Service (NMFS), National Oceanic and Atmospheric Administration (NOAA), Commerce.

ACTION: Notice; receipt of application.

SUMMARY: Notice is hereby given that Heidi Pearson, Ph.D., University of Alaska Southeast, 11066 Auke Lake Way, Juneau, AK 99801, has applied in due form for a permit to conduct research on marine mammals.

DATES: Written comments must be received on or before April 22, 2024.

ADDRESSES: The application and related documents are available for review by selecting “Records Open for Public Comment” from the “Features” box on the Applications and Permits for Protected Species home page, https://apps.nmfs.noaa.gov, and then selecting File No. 27342 from the list of available applications. These documents are also available upon written request via email to NMFS.Pr1Comments@noaa.gov.

Written comments on this application should be submitted via email to NMFS.Pr1Comments@noaa.gov. Please include File No. 27342 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Courtney Smith, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant requests a 5-year research permit to study marine mammal behavior, ecology, health, and movement patterns. Up to 11 species of marine mammals may be harassed including the following ESA-listed species: fin (Balaenoptera physalus), gray (Eschrichtius robustus; Western North Pacific distinct population segment [DPS]), humpback (Megaptera novaeangliae; Mexico DPS), and sperm (Physeter macrocephalus) whales, and Steller sea lions (Eumetopias jubatus, Western DPS). Research may occur year-round in waters off Southeast Alaska. Research may be conducted from a vessel or unmanned aircraft system for counts, photography and video recording (above and underwater), photogrammetry, passive acoustics, tracking, suction-cup tagging, and biological sampling (skin and blubber biopsy, skin swabs, sloughed skin, exhaled air, feces, and eDNA). See the application for complete numbers of animals requested by species, age-class, and procedure.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 18, 2024.
Julia M. Harrison,
Chief, Permits and Conservation Division, Office of Protected Resources, National Marine Fisheries Service.

[FR Doc. 2024-06000 Filed 3-20-24; 8:45 am]

BILLING CODE 3510-22-P